ENVIRONMENTAL PROTECTION AGENCY

[FRL-11450-01-ORD]

Ambient Air Monitoring Reference and Equivalent Methods; Designation of Two New Equivalent Methods

AGENCY: Environmental Protection Agency (EPA).

ACTION: Notice of the designation of two new equivalent methods for monitoring ambient air quality.

SUMMARY: Notice is hereby given that the Environmental Protection Agency (EPA) has designated one new equivalent method for measuring concentrations of Lead (pb), and one new equivalent method for measuring concentrations of Particulate Matter (PM10) in ambient air.

FOR FURTHER INFORMATION CONTACT: Robert Vanderpool, Air Methods and Characterization Division (MD-D205-03), Center for Environmental Measurements and Modeling, U.S. EPA, Research Triangle Park, North Carolina 27711. Phone: 919-541-7877. Email: Vanderpool.Robert@epa.gov.

SUPPLEMENTARY INFORMATION: In accordance with regulations at 40 CFR part 53, the EPA evaluates various methods for monitoring the concentrations of those ambient air pollutants for which EPA has established National Ambient Air Quality Standards (NAAQS) as set forth in 40 CFR part 50. Monitoring methods that are determined to meet specific requirements for adequacy are designated by the EPA as either reference or equivalent methods (as applicable), thereby permitting their use under 40 CFR part 58 by States and other agencies for determining compliance with the NAAQS. A list of all reference or equivalent methods that have been previously designated by EPA may be found at http://www.epa.gov/ttn/amtic/criteria.html.

The EPA hereby announces the designation of one new equivalent method for measuring concentrations of Pb, and one new equivalent method for measuring concentrations of PM10 in ambient air. These designations are made under the provisions of 40 CFR part 53, as amended on October 26, 2015 (80 FR 65291-65468).

The new equivalent method for Pb is a manual method that uses the sampling procedure specified in the Reference Method for the Determination of Lead in Suspended Particulate Matter Collected from Ambient Air (High-Volume Sampler), 40 CFR part 50, appendix G, with a different extraction and analytical procedure. The method is identified as follows:

EQL-0723-261, “Microwave Assisted Digestion and Quadrupole Inductively Coupled Plasma—Mass Spectrometry (South Coast Air Quality Management District Laboratory)” “Determination of Lead (Pb) on TSP Hi-Volume Filters by Microwave Assisted Digestion and Quadrupole Inductively Coupled Plasma Mass Spectrometry (Quadrupole ICP-MS).” A sample of total suspended particulate matter (TSP) is collected on a glass or quartz fiber filter, using the sampler and procedure of the EPA Reference Method for the Determination of Suspended Particulate Matter in the Atmosphere (High-Volume Method) (40 CFR part 50, appendix B). The TSP sample is extracted with a nitric acid solution and digested in a microwave system, centrifuged and brought to a final acid concentration of 2-3%. The lead content of the sample extract is analysed by Quadrupole Inductively Coupled Plasma Mass Spectrometry (Quadrupole ICP-MS), based on EPA Method IO-3.5.

The application for equivalent method determination for this Pb method was submitted by South Coast Air Quality Management District, 21865 Copley Drive, Diamond Bar, CA 91765 and was received by the Office of Research and Development on July 11, 2023.

The new equivalent method for PM10 is an automated monitoring method (monitor) utilizing the measurement principle based on beta-ray attenuation. This newly designated equivalent method is identified as follows:

EQPM-0923-262, “Vasthi Instruments Pvt. Ltd Vair-9009 p.m.10 Monitor,” beta-ray monitor operated in a range of 0-5mg/m³, with an operational temperature range of 0 °C to 40 °C. The unit is configured for 24, 1-hour average measurements of PM10 by beta attenuation, using a glass fiber paper tape roll (VPM-1006). The unit operates at a sample flow rate of 16.67 liters/min, with PM10 inlet meeting 40 CFR part 50 appendix L specifications, and heated inlet to control sample relative humidity to 35%. Instrument must be operated in accordance with the Vair-9009 Operating Manual. This designation applies to PM10 measurements only.

This application for an equivalent method determination for this PM10 method was received by the Office of Research and Development on July 11, 2023. This monitor is commercially available from the applicant, Vasthi Instruments, Guntur 522 001, Andhra Pradesh, India.

A representative test analyzer was tested in accordance with the applicable test procedures specified in 40 CFR part 53, as amended on October 26, 2015. After reviewing the results of those tests and other information submitted by the applicant, EPA has determined, in accordance with 40 CFR part 53, that these methods should be designated as equivalent methods.

As designated equivalent methods, these methods are acceptable for use by states and other air monitoring agencies under the requirements of 40 CFR part 58, Ambient Air Quality Surveillance. For such purposes, these methods must be used in strict accordance with the operation or instruction manual associated with the method and subject to any specifications and limitations (e.g., configuration or operational settings) specified in the designated method description (see the identification of the methods above).

Use of the methods also should be in general accordance with the guidance and recommendations of applicable sections of the “Quality Assurance Handbook for Air Pollution Measurement Systems, Volume I,” EPA/600/R-94/038a and “Quality Assurance Handbook for Air Pollution Measurement Systems, Volume II, Ambient Air Quality Monitoring Program,” EPA-454/B-13-003, (both available at http://www.epa.gov/ttn/amtic/qalist.html). Provisions concerning modification of such methods by users are specified under section 2.8 (Modifications of Methods by Users) of appendix C to 40 CFR part 58.

Consistent or repeated noncompliance with any of these conditions should be reported to: Director, Air Methods and Characterization Division (MD-D205-03), Center for Environmental Measurements and Modeling, U.S. Environmental Protection Agency, Research Triangle Park, North Carolina 27711.

Designation of these equivalent methods are intended to assist the States in establishing and operating their air quality surveillance systems under 40 CFR part 58. Questions concerning the commercial availability or technical aspects of these methods should be directed to the applicants.

Alice Gilliland,
Acting Director, Center for Environmental Measurements and Modeling.

[FR Doc. 2023-24495 Filed 11-3-23; 8:45 am]

BILLING CODE 6560-50-P